DEPARTMENT OF LABOR

Employment Standards Administration

Proposed Collection; Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)].

This program helps to ensure that requested data can be provided in the desired format, reporting burden (time and financial resources) is minimized, collection instruments are clearly understood, and the impact of collection requirements on respondents can be properly assessed. Currently, the Employment Standards Administration is soliciting comments concerning the proposed collection: Worker Information—Terms and Conditions of Employment (WH-516 English and WH-516 Espanol). A copy of the proposed information collection request can be obtained by contacting the office listed below in the addresses section of this Notice.

DATES: Written comments must be submitted to the office listed in the addresses section below on or before November 8, 2004.

ADDRESSES: Ms. Hazel M. Bell, U.S. Department of Labor, 200 Constitution Ave., NW., Room S-3201, Washington, DC 20210, telephone (202) 693-0418, fax (202) 693-1451, E-mail bell.hazel@dol.gov. Please use only one method of transmission for comments (mail, fax, or E-mail).

SUPPLEMENTARY INFORMATION:

I. Background

Various sections of the Migrant and Seasonal Agricultural Worker Protection Act (MSPA), 29 U.S.C. 1801 et seq.; require each farm labor contractor, agricultural employer and agricultural association to disclose employment terms and conditions in writing to: (a) Migrant agricultural workers at the time of recruitment (MSPA section 201(a)); (b) seasonal agricultural workers, upon request, at the time of hire (MSPA section 301(a)(1)); and (c) seasonal agricultural workers employed through a day-haul operation at the place of recruitment (MSPA section 301(a)(2)). MSPA sections 201(b) and 301(b) also require that each such respondent provide each migrant worker, upon request, a written statement of terms and conditions of employment. In addition, MSPA sections 201(g) and 301(f) require providing such information in English or, as necessary and reasonable, in a language common to the workers and that the U.S. Department of Labor (DOL) make forms available to provide such information. DOL prints and makes optional Form WH-516, Worker Information—Terms of Conditions of Employment, available for this purpose. MSPA sections 201(a)(8) and 301(a)(1)(H) require disclosure of certain information regarding State workers' compensation insurance to each migrant or seasonal agricultural worker (i.e., whether State workers' compensation is provided and if so, the name of the State workers' compensation insurance carrier, the name of each person of the policyholder of such insurance, the name and the telephone number of each person who must be notified of an injury or death and the time period within which this notice must be given). Respondents may also meet this disclosure requirement, by providing the worker with a photocopy of any notice regarding workers' compensation insurance required by law of the state in which such worker is employed. The terms and conditions required to be disclosed to workers are set forth in sections 500.75(a) and (b) and 500.75(a), (b) and (c) of Regulations, 29 CFR part 500, Migrant and Seasonal Agricultural Worker Protection. Regulations 500.75(a) and 500.76(a) allow respondents to complete and disclose to workers the terms and conditions of employment using the DOL-developed optional form WH-516 to satisfy these requirements. Optional Form WH-516 may be used by the respondent to disclose employment terms and conditions in writing to migrant and seasonal agricultural workers. This information collection is currently approved for use through February 28, 2005.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the approval for the extension of this information collection in order to carry out its responsibility to ensure that farm labor contractors, agricultural employers and agricultural associations have disclosed to their migrant and seasonal agricultural workers the terms and conditions of employment as required by MSPA and its regulations.

Type of Review: Extension.

Agency: Employment Standards Administration.

Title: Worker Information—Terms and Conditions of Employment.

OMB Number: 1215-0187.

Agency Number: WH-516 English and WH-516 Espanol.

Affected Public: Farms, Individuals or households, Business or other for-profit.

Total Respondents: 129,000.

Total Responses: 1,594,800.

Average Time per Response: 32 minutes.

Estimated Total Burden Hours: 68,800.

Frequency: On Occasion.

Total Burden Cost (capital/startup): $0.

Total Burden Cost (operating/maintenance): $43,060.

Comments submitted in response to this notice will be summarized and/or included in the request for Office of Management and Budget approval of the information collection request; they will also become a matter of public record.

Dated: September 1, 2004.
Bruce Bohanon,
Chief, Branch of Management Review and Internal Control, Division of Financial Management, Office of Management, Administration and Planning, Employment Standards Administration.

[FR Doc. 04-20216 Filed 9-3-04; 8:45 am]

BILLING CODE 4510-27-P